DEPARTMENT OF COMMERCE

Bureau of Industry and Security

15 CFR Part 744

Addition of Entities to the Entity List

CFR Correction

This rule is being published by the Office of the Federal Register to correct an editorial or technical error that appeared in the most recent annual revision of the Code of Federal Regulations.

In Title 15 of the Code of Federal Regulations, Parts 300 to 799, revised as of January 1, 2024, in supplement number 4 to part 744, in the table, under NETHERLANDS, restore the entry for “Kapil Raj Arora”, and under PAKISTAN, restore the entry for “Orion Eleven Pvt. Ltd.”, to read as set forth below:

Supplement No. 4 to Part 744—Entity List

* * * * *

Country | Entity | License requirement | License review policy | Federal Register citation
* * * * * * *
NETHERLANDS | * * * * * *
| Kapil Raj Arora, Breukelensestraat 44, 2574 RC, The Hague, Netherlands; and Knobbelswaansingel 19, 2496 LN, The Hague, Netherlands | For all items subject to the EAR. (See § 744.11 of the EAR) | Presumption of denial | 81 FR 14958, 3/21/16.
| * * * * * *
PAKISTAN | * * * * * *
| Orion Eleven Pvt. Ltd., Street 11 Valley Road, Westridge Rawalpindi, Pakistan | For all items subject to the EAR. (See § 744.11 of the EAR) | Presumption of denial | 79 FR 56003, 9/18/14.
| * * * * * *

* * * * *

[FR Doc. 2024-21109 Filed 9-13-24; 8:45 am]

BILLING CODE 0099-10-P